DEPARTMENT OF EDUCATION

Rehabilitation Research and Training Center (RRTC) Program

AGENCY: National Institute on Disability and Rehabilitation Research (NIDRR), Office of Special Education and Rehabilitative Services, Department of Education.

ACTION: Notice of final priorities.

SUMMARY: The Assistant Secretary for Special Education and Rehabilitative Services announces two final priorities, one on Aging-Related Changes in Impairment for Persons Living with Physical Disabilities and one on Personal Assistance Services (PAS) under the Rehabilitation Research and Training Center (RRTC) Program for the National Institute on Disability and Rehabilitation Research (NIDRR). The Assistant Secretary may use one or more of these priorities for competitions in FY 2003 and in later years. We take this action to focus research attention on an identified national need. We intend these priorities to improve the rehabilitation services and outcomes for individuals with disabilities.

EFFECTIVE DATE: These priorities are effective September 30, 2002.

FOR FURTHER INFORMATION CONTACT: Donna Nangle, U.S. Department of Education, 400 Maryland Avenue, SW., room 3412, Switzer Building, Washington, DC 20202-2645. Telephone: (202) 205-5880 or via the Internet: donna.nangle@ed.gov.

If you use a telecommunications device for the deaf (TDD), you may call the TDD number at (202) 205-4475.

Individuals with disabilities may obtain this document in an alternative format (e.g., Braille, large print, audiotape, or computer diskette) on request to the contact person listed under FOR FURTHER INFORMATION CONTACT.

SUPPLEMENTARY INFORMATION:

Description of the Rehabilitation Research and Training Centers (RRTC) Program

The RRTCs conduct coordinated and integrated advanced programs of research targeted toward the production of new knowledge, to improve rehabilitation methodology and service delivery systems, alleviate or stabilize disabling conditions, or promote maximum social and economic independence for persons with disabilities. RRTCs operate in collaboration with institutions of higher education or providers of rehabilitation or other appropriate services. Additional information on the RRTC program can be found at: http://www.ed.gov/offices/OSERS/NIDRR/Programs/res_program.html#RRTC.

General Requirements

The RRTC must:

• Carry out coordinated advanced programs of rehabilitation research;

• Provide training, including graduate, pre-service, and in-service training, to help rehabilitation personnel more effectively provide rehabilitation services to individuals with disabilities;

• Provide technical assistance to individuals with disabilities, their representatives, providers, and other interested parties;

• Disseminate informational materials to individuals with disabilities, their representatives, providers, and other interested parties;

• Serve as a center for national excellence in rehabilitation research for individuals with disabilities, their representatives, providers, and other interested parties.

These priorities reflect issues discussed in the New Freedom Initiative (NFI) and NIDRR's Long-Range Plan (the Plan). The NFI can be accessed on the Internet at: http://www.whitehouse.gov/news/freedominitiative/freedominiative.html.

The Plan can be accessed on the Internet at: http://www.ed.gov/offices/OSERS/NIDRR/Products.

We published a notice of proposed priorities (NPP) for these programs in the Federal Register on May 20, 2002 (67 FR 35692).

There are no differences between the NPP and this notice of final priorities (NFP).

The backgrounds for each of the priorities were published in the NPP.

Analysis of Comments and Changes

In response to our invitation in the NPP, several parties submitted comments on the proposed priorities (18 parties for the Aging-Related Changes in Impairment for Persons Living with Physical Disabilities and 12 parties for the PAS). An analysis of the comments is published as an appendix at the end of this notice. We discuss comments under the priority to which they pertain.

Generally, we do not address technical and other minor changes and suggested changes the law does not authorize us to make under the applicable statutory authority.

Note: This notice does not solicit applications. In any year in which we choose to use these priorities, we invite applications through a notice in the Federal Register. When inviting applications we designate the priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the priority (34 CFR 75.105(c)(2)(i)); or (2) selecting an application that meets the competitve priority over an application of comparable merit that does not meet the priority (34 CFR 75.105(c)(2)(ii)).

Invitational priority: Under an invitational priority, we are particularly interested in applications that meet the invitational priority. However, an application that meets the invitational priority does not receive competitive or absolute preference over other applications (34 CFR 75.105(c)(1)).

Priorities

Priority 1—Aging-Related Changes in Impairment for Persons Living With Physical Disabilities

This priority supports one Rehabilitation Research and Training Center on Aging-Related Changes in Impairment for Persons Living with Physical Disabilities. The purpose of the priority is to generate new knowledge regarding the characteristics, prevalence, and distribution of these changes, their interrelationships with lifestyle and environmental factors, and their consequences on health, activity, and participation across the life span. The priority seeks to improve rehabilitation outcomes by encouraging innovative interventions aimed at preventing or minimizing the impact of aging-related changes on the well-being and productivity of persons with physical disabilities. The RRTC is required to conduct significant and substantial cross-disability research and is encouraged to collaborate with one or more institutions, for the purposes of ensuring inclusion of multidisciplinary expertise across disability groups, and sufficient sample size and methodological rigor to generate robust findings.

The RRTC must:

(1) Clarify definitions and critically review and analyze strategies to measure aging-related changes in physical, psychological, and sensory impairment within and across at least two physical disabilities such as, but not limited to, Spinal Cord Injury (SCI), Cerebral Palsy, Post-Polio Syndrome, Muscular Dystrophy, and Multiple Sclerosis;

(2) Using the disabilities selected, document aging-related changes and examine variations in terms of prevalence, magnitude of change, timing of onset (age and duration of disability), onset severity and socio-demographic distribution within, and between study groups;

(3) Develop a conceptual model, grounded in an appropriate theoretical framework, of aging-related changes in impairment that: (a) predicts determinants of increases or stability in severity of impairment such as age, disability, lifestyle, or environmental factors; (b) quantifies the interrelationships between stability and increases in impairment and the occurrence of secondary health conditions; and (c) evaluates the consequences of changes in impairment on activity and participation across major life domains;

(4) Using the model (see (3)) as a framework, identify or develop and evaluate rehabilitation techniques or interventions, or both, to mitigate the direct consequences of changes in impairment on health, activity limitations, and participation in employment, family life, independent living, community integration, and leisure and recreational activities; and

(5) Develop, implement, and evaluate a comprehensive plan to train policymakers, researchers, practitioners, service providers and advocates in rehabilitation and disability-related fields, and consumers and family members about aging-related changes in impairment, and the consequences for health, participation and quality of life of individuals with physical disabilities.

In carrying out the purposes of the priority, the RRTC must:

• Develop and implement during the first year of the grant, and in consultation with the National Center on Dissemination of Disability Research (NCDDR), a comprehensive plan that promotes broad dissemination to both consumer and professional audiences;

• Involve consumers and family members as appropriate in all stages of research and related activities;

• Address the unique needs of individuals aging with physical disabilities who are members of groups that have traditionally been underrepresented, and demonstrate use of culturally appropriate methods of data collection, measurement and dissemination;

• Collaborate on projects, as appropriate, with NIDRR-funded RRTCs, Rehabilitation Engineering Research Centers (RERCs), and Model Systems, and other public and private agencies and institutions;

• In the fourth year of the project, conduct a state-of-the-science national conference to disseminate and discuss the results of the research with researchers, policymakers, consumers, family members, and other stakeholders; and

• Demonstrate appropriate multidisciplinary linkages to Geriatrics, Gerontology and Rehabilitation.

Priority 2—Personal Assistance Services

This priority supports one Rehabilitation Research and Training Center on PAS. The purpose of this priority is to support methodologically rigorous collaborative research to generate new knowledge that informs service delivery providers and policymakers regarding the need for and provision of PAS at the worksite, in the community, and in home-based settings for individuals with physical, sensory, cognitive, psychiatric, and multiple disabilities.

The activities are:

(1) Identify or develop, or both, evaluate, and disseminate best practices for PAS at the worksite to facilitate employment of individuals with disabilities who need such accommodations;

(2) Identify or develop, or both, evaluate, and disseminate best practices for PAS in community- and home-based settings to facilitate maximum integration and participation by working-age and older adults with disabilities;

(3) Conduct research on the PAS workforce and workforce development that reflects geographic diversity and addresses PAS workforce recruitment, retention, compensation and benefits; professional training, development, and networking, for PAS providers, including communication between individual, group, public and private PAS providers; and crossover issues between disability and aging providers;

(4) Identify and analyze existing model State and Federal PAS policies and programs, and develop a database to inventory the results;

(5) Evaluate and determine the impact on, and relevance to, PAS at the worksite and in the community of recent policy initiatives, such as E.O. 13207 implementing the Olmstead decision (Olmstead v. L.C., 527 U.S. 581), the NFI, and other systems change activities for changes to existing State and Federal policies and programs;

(6) Conduct research on the relationship between formal and informal PAS and caregiving support, and on the role of assistive technology (AT) in complementing personal assistance to enhance the function, access, independent living, and quality of life of working-age and older adults with disabilities. In addition, identify and evaluate barriers to obtaining and using multiple sources of support; and

(7) Identify, develop, and evaluate models to eliminate barriers encountered by working-age and older adults with disabilities in accessing and utilizing both formal and informal PAS and AT to support employment, functional independence, and community integration.

In addition to proposed activities, in carrying out these priorities, the applicant must:

• Involve individuals with disabilities or their family members, or both and persons who are members of groups that have traditionally been underrepresented, as appropriate, in all stages of research and related activities;

• In the fourth year of the project, conduct a state-of-the-science national conference to disseminate and discuss the results of the research with researchers, policymakers, consumers, and other stakeholders;

• Coordinate with other entities carrying out related research or training activities; and

• Identify coordination responsibilities through consultation with the NIDRR project officer.

Intergovernmental Review

This program is not subject to Executive Order 12372 and the regulations in 34 CFR part 79.

Applicable Program Regulations: 34 CFR part 350.

Electronic Access to This Document

You may review this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www.access.gpo.gov/nara/index.html.

(Catalog of Federal Domestic Assistance Number 84.133B, Rehabilitation Research and Training Center)

Program Authority: 29 U.S.C. 762(g) and 764(b)(2).

Dated: August 27, 2002.
Robert H. Pasternack,
Assistant Secretary for Special Education and Rehabilitative Services.

Appendix—Analysis of Comments and Changes

Priority 1—Aging Related Changes in Impairment for Persons Living with Physical Disabilities

Comments: Several commenters said by shifting the target population focus of this RRTC from SCI specific to cross-disability, the ongoing research and training efforts to address the unique needs and issues of the aging SCI population will be diluted.

Discussion: The priority allows applicants the discretion to propose investigation across two or more physical disability groups, one of which may be SCI. Further, it is not the intent of the Department of Education to de-emphasize the need and value of SCI research or dilute ongoing research efforts in the field of aging and SCI. This is demonstrated by review of NIDRR's research portfolio, in which funded Field-Initiated Projects, RERCs, SCI Model Systems, and other RRTCs focus some of their research and development efforts either directly or indirectly on issues of aging and SCI.

Change: None.

Comments: Several commenters suggested that the shift in focus and title of the currently funded RRTC on Aging with SCI to the RRTC on Aging-Related Changes in Impairment for Persons Living with Physical Disabilities constitutes a change that requires formal announcement and opportunity for public comment as stipulated in Executive Order 12866

Discussion: Executive Order 12866 establishes a requirement to seek public comment on rules adopted for new competitions. There is no obligation to take public comment on refocusing current competitions or not renewing old competitions. This NIDRR priority is not deemed to be new, but simply a redirection in focus with a goal of fostering interdisciplinary research collaboration and inclusion across disability groups that have been identified, empirically and anecdotally, as experiencing similar aging-related changes and declines. As the current priority requires a cross-disability research design, it does not prohibit the inclusion of the SCI population as one of the physical disability groups to be studied.

Change: None.

Priority 2—Personal Assistance Services

Comments: Several commenters noted the extensive scope of work proposed for the RRTC and recommended that the scope of work be revised. Some comments related to the significant set of activities proposed for a single RRTC. Comments included a variety of suggestions to parse the work for this RRTC including a focus primarily on workers who provide PAS and on home and community-based PAS, with separate RRTCs created to focus on PAS at the worksite. At the same time, other commenters underscored the interrelationship between PAS and participation outcomes at home, in the community, and at the workplace.

Discussion: NIDRR agrees that the scope of work for the proposed RRTC on PAS is substantial. In developing the proposed RRTC, we considered existing literature and data, reports, and reviews related to previous NIDRR-funded work on PAS, conference findings, discussions with other Federal agencies, and the current policy framework related to PAS. Following the numerous review activities, we discussed the range of critical issues for such an RRTC. As a result, we concluded that there is an urgent need to address PAS across the continuum of the lived experience of people who need such services. In policy and practice, we must work to develop knowledge to facilitate resources that assure quality PAS across a range of daily activities in a variety of environments. As an example, PAS at the worksite could be necessary and available but may be of little value if an individual lacks such services at home and cannot tend to personal needs in order to prepare for the workday. There may be value in conducting research or development activities associated with a specific type of service or for a single range of needs. However, we think there is a critical need to first develop a coordinated effort in light of recent policy initiatives.

Change: None.

Comments: Several commenters suggested resources that might be helpful in carrying out the goals of the priority. These included models of support organizations for personal care attendants (PCA) and entities conducting research related to that proposed in the priority.

Discussion: NIDRR is very appreciative of the many offers of support and resources we received from commenters. Through the NIDRR project officer, we will work with the successful applicant to assure coordination as appropriate.

Change: None.

Comments: Several commenters noted the need to study PAS across a range of disabilities including cognitive, psychiatric, and sensory disabilities.

Discussion: NIDRR agrees that there is a need to address PAS across a range of disabilities and has required that applicants propose methodologies for doing so. In some cases, solid research may be available and can be evaluated and inventoried for policymakers, consumers, service providers, and others. For some domains of disability, new and creative approaches must be developed. As an example, two commenters claimed that there is insufficient literature related to PAS for individuals with disabilities associated with mental health and, as a result, suggested a strong emphasis on cognitive and psychiatric disabilities. Regarding sensory disabilities, an applicant may choose to include activities associated with such disabilities within the range of its proposal. NIDRR has no basis to determine that all applicants should be required to adopt the same approach. The peer review process will evaluate the merits of the proposal.

Change: None.

Comments: Two commenters discussed dissemination and training activities. One suggested that the priority include a national website to serve as a referral tool for consumers who need PCAs and a source of training on consumer-controlled PAS. Another noted the need to disseminate information about how people with various disabilities utilize PAS and AT and the range of service delivery models available across different types of disabilities.

Discussion: An applicant must propose modes of dissemination and training and could include such activities; however, NIDRR has no basis to determine that all applicants should be required to focus on these particular methodologies. The peer review process will evaluate the merits of the proposal.

Change: None.

Comments: Several commenters suggested research issues to be addressed as part of the priority. These included current public policies that facilitate or hinder provision of PAS; shortages of longterm care workers; quality and legal accountability of consumer-directed PAS; international issues; use of a business model to study work-related PAS; and the value of PAS for participation of people with disabilities.

Discussion: An applicant must address issues associated with policies to facilitate provision of and payment of PAS and development of well-trained workers to provide PAS. An applicant must also investigate provision of adequate PAS at home, in the community, and the places where individuals with disabilities work. Within each of the broad areas of research, there are many possible approaches to conducting research. NIDRR has no basis to determine that all applicants should be required to adopt the same approach. The peer review process will evaluate the merits of the proposal.

Change: None.

Comments: One commenter noted that there is a substantial body of research about PAS. The commenter suggested that existing research must be used as a base, without redundancy by the proposed RRTC.

Discussion: NIDRR agrees that existing research may be considered by the applicant. It is our goal to foster work that expands upon existing knowledge or that addresses key issues that have received inadequate attention in past research. The peer review process will evaluate the merits of the proposal.

Change: None.

Comments: Two commenters underscored the financial issues of PAS, noting that funding for PAS is critical. The commenters noted that public policies associated with funding must be evaluated and that empirical research is needed to address the economic and participation effects of PAS.

Discussion: NIDRR agrees that funding of PAS is a fundamental issue for people who need such services. As noted in the priority, public policies associated with PAS must be carefully evaluated. Research could address a range of issues associated with the benefits of PAS. The NFI, Olmstead, and other systems change activities provide a current context for developing such activities.

Change: None.

Comments: Two commenters suggested that the priority require activities associated with education-related PAS. One comment noted that parents of children with disabilities need reliable PAS for their children, including school-based services, so that they might pursue employment. A second comment emphasized a need to study PAS for working-aged youth transitioning from school to work and for those in postsecondary educational institutions.

Discussion: NIDRR agrees that significant issues exist related to both school-based services and transition. NIDRR has no basis to determine that all applicants should be required to study PAS in school or transition settings. An applicant could propose to investigate PAS for youth. The peer review process will evaluate the merits of the proposal.

Change: None.

[FR Doc. 02-22277 Filed 8-29-02; 8:45 am]

BILLING CODE 4000-01-U